DEPARTMENT OF COMMERCE

National Oceanic and Atmospheric Administration

50 CFR Part 648

[Docket No. 140117052-4402-02]

RIN 0648-XD651

Fisheries of the Northeastern United States; 2015 Summer Flounder, Scup, and Black Sea Specifications and 2015 Commercial Summer Flounder Quota Adjustments

AGENCY: National Marine Fisheries Service (NMFS), National Oceanic and Atmospheric Administration (NOAA), Commerce.

ACTION: 2015 Summer Flounder, Scup, and Black Sea Specifications and 2015 commercial summer flounder state quotas.

SUMMARY: NMFS is announcing revised commercial quotas and recreational harvest limits for the 2015 summer flounder, scup, and black sea bass fisheries, as well as the commercial summer flounder state quotas for fishing year 2015. This is necessary to incorporate adjustments to the quotas due to the suspension of the Research Set-Aside program, implement an accountability measure for the commercial black sea bass fishery, and, for summer flounder state quotas, account for any previously unaccounted for overages from fishing year 2013 and any known overages to date from fishing year 2014. The intent of this action is to modify the established harvest levels to ensure that these species are not overfished or subject to overfishing in 2015.

DATES: Effective January 1, 2015, through December 31, 2015.

FOR FURTHER INFORMATION CONTACT: Moira Kelly, Fishery Policy Analyst, (978) 281-9218.

SUPPLEMENTARY INFORMATION:

Background

The Mid-Atlantic Fishery Management Council and the Atlantic States Marine Fisheries Commission cooperatively manage the summer flounder, scup, and black sea bass fisheries. Specifications for these fisheries include the acceptable biological catch (ABC) limit, various catch and landing subdivisions (such as the commercial and recreational sector annual catch limits (ACLs)), annual catch targets (ACTs), sector-specific landing limits (i.e., the commercial fishery quotas and recreational harvest limits), and research set-aside quotas established for one or more fishing years. Typically, these specifications are set on an annual or multi-year basis and announced in the Federal Register in December. The specifications rulemaking for 2014 was delayed because of a summer flounder stock assessment. This delay allowed the Council to establish the 2015 specifications in May 2014, in conjunction with the revised 2014 specifications (May 22, 2014; 79 FR 29371). The 2015 specifications were based on recommendations that the Council made in October 2013, and included commercial quotas and recreational harvest limits as adjusted for a 3-percent reduction in landings to accommodate the Research Set-Aside program.

Research Set-Aside Quota Restoration

The Research Set-Aside program has recently been the subject of significant debate regarding its effectiveness in providing useful research and for enforcement concerns. At its August 2014 meeting, the Council voted to suspend the Research Set-Aside program for fishing year 2015 and to conduct a comprehensive review of the program. As a result, the previously deducted Research Set-Aside amounts will be redistributed to the respective commercial quota and recreational harvest limits, as follows:

Table 1—Previously Deducted Research Set-Aside Quota
| lb | mt
Commercial Summer Flounder | 332,898 | 151
Recreational Summer Flounder | 220,462 | 100
Commercial Scup | 637,136 | 289
Recreational Scup | 205,030 | 93
Commercial Black Sea Bass | 70,548 | 32
Recreational Black Sea Bass | 66,139 | 30

Commercial Black Sea Bass Accountability Measure

For each fishery, the ABC is equal to the sum of the commercial and recreational ACLs. Based on recommendations from the Council's Summer Flounder, Scup, and Black Sea Bass Monitoring Committees, the ACT was set equal to the ACL for the commercial and recreational sectors for all three species for the 2015 fishing year. However, there was an overage of the 2013 black sea bass commercial ACL because discards were higher than projected. The non-landings accountability measure, specified at 50 CFR 648.143(b), requires the exact amount, in pounds, by which the commercial ACL was exceeded to be deducted, as soon as possible, from the applicable subsequent single fishing year commercial ACL. As such, the commercial black sea bass ACL of 2.60 million lb (1,180 mt) is reduced by the overage amount (22,564 lb (10 mt)), resulting in a commercial ACT of 2.58 million lb (1,170 mt). Projected discards, calculating using recent discard information, consistent with the requirements of the FMP, are then deducted from the ACT for each fishery in order to establish the commercial quota or recreational harvest limit, respectively.

Revised 2015 Specifications

Table 2 shows the revised specifications for the 2015 fishing year, including the sector-specific projected discards used to calculate the landings limits. These specifications include the restoration of the Research Set-Aside program quotas, as well as the commercial black sea bass accountability measure described above.

Table 2—2015 Summer Flounder, Scup, and Black Sea Bass Specifications
| Summer Flounder: million lb | Summer Flounder: mt | Scup: million lb | Scup: mt | Black Sea Bass: million lb | Black Sea Bass: mt
ABC | 22.57 | 10,239 | 33.77 | 15,320 | 5.50 | 2,494
Commercial ACL | 13.34 | 6,049 | 26.35 | 11,950 | 2.60 | 1,180
Commercial ACT | 13.34 | 6,049 | 26.35 | 11,950 | 2.58 | 1,170
Commercial Discards | 2.67 | 1,028 | 5.11 | 2,318 | 0.37 | 166
Commercial Quota | 11.07 | 5,021 | 21.23 | 9,632 | 2.21 | 1,004
Recreational ACL/ACT | 9.44 | 4,280 | 7.43 | 3,370 | 2.90 | 1,314
Recreational Discards | 2.06 | 933 | 0.63 | 286 | 0.57 | 258
Recreational Harvest Limit | 7.38 | 3,347 | 6.80 | 3,084 | 2.33 | 1,056

Summer Flounder State Quotas and Overages

An important component of the annual specifications rulemaking is the notification of the commercial summer flounder state quotas and overages. Overages are calculated using final landings data from the previous fishing year and landings from the current fishing year through October 31. In this case, previously unaccounted for overages from fishing year 2013 are combined with known overages through October 31, 2014. The 2015 summer flounder state quotas, adjusted for these overages, are as follows:

Table 3—2015 Commercial Summer Flounder State Quotas
State | FMP percent share | 2015 Initial quota: lb | 2015 Initial quota: kg ² | Quota overages (through 10/31/14) ¹: lb | Quota overages (through 10/31/14) ¹: kg ² | Adjusted 2015 quota, less overages: lb | Adjusted 2015 quota, less overages: kg ²
ME | 0.04756 | 5,265 | 2,390 | 0 | 0 | 5,265 | 2,388
NH | 0.00046 | 51 | 20 | 0 | 0 | 51 | 23
MA | 6.82046 | 754,985 | 342,460 | −5,050 | −2,291 | 749,935 | 340,165
RI | 15.68298 | 1,736,013 | 787,440 | 0 | 0 | 1,736,013 | 787,442
CT | 2.25708 | 249,845 | 113,330 | 0 | 0 | 249,845 | 113,328
NY | 7.64699 | 846,477 | 383,960 | 0 | 0 | 846,477 | 383,955
NJ | 16.72499 | 1,851,358 | 839,760 | 0 | 0 | 1,851,358 | 839,762
DE ³ | 0.01779 | 1,969 | 890 | −51,430 | −23,328 | −49,461 | −22,435
MD | 2.03910 | 225,716 | 102,380 | 0 | 0 | 225,716 | 102,383
VA | 21.31676 | 2,359,640 | 1,070,310 | 0 | 0 | 2,359,640 | 1,070,315
NC | 27.44584 | 3,038,093 | 1,378,060 | 0 | 0 | 3,038,093 | 1,378,056
Total | 100.00 | 11,069,410 | 5,021,000 | −56,450 | −25,619 | ⁴ 11,062,392 | ⁴ 5,017,817
¹ 2014 quota overage is determined by comparing landings for January through October 2014, plus any landings in 2013 in excess of the 2013 quota (that were not previously addressed in the 2014 specifications) for each state.
² Kilograms are as converted from pounds and may not necessarily add due to rounding.
³ For Delaware, this includes continued repayment of overharvest from previous years.
⁴ Total quota is the sum for all states with an allocation. A state with a negative number has a 2015 allocation of zero (0).

Delaware Summer Flounder Closure

Table 3 shows that, for Delaware, the amount of overharvest from previous years is greater than the amount of commercial quota allocated to Delaware for 2015. As a result, there is no quota available for 2015 in Delaware. The regulations at § 648.4(b) state that Federal permit holders, as a condition of their permit, must not land summer flounder in any state that the Administrator, Greater Atlantic Region, NMFS, has determined no longer has commercial quota available for harvest. Therefore, effective January 1, 2015, landings of summer flounder in Delaware by vessels holding commercial Federal summer flounder permits are prohibited for the 2015 calendar year, unless additional quota becomes available through a quota transfer and is announced in the Federal Register. Federally permitted dealers are advised that they may not purchase summer flounder from federally permitted vessels that land in Delaware for the 2015 calendar year, unless additional quota becomes available through a transfer, as mentioned above.

Authority: 16 U.S.C. 1801 et seq.

Dated: December 23, 2014.
Alan D. Risenhoover,
Director, Office of Sustainable Fisheries, National Marine Fisheries Service.

[FR Doc. 2014-30500 Filed 12-29-14; 8:45 am]

BILLING CODE 3510-22-P